DEPARTMENT OF ENERGY

Federal Energy Regulatory Commission

Combined Notice of Filings #1

Take notice that the Commission received the following electric corporate filings:

Docket Numbers: EC23-105-000.

Applicants: Orlando CoGen Limited, L.P.

Description: Application for Authorization Under Section 203 of the Federal Power Act of Orlando CoGen Limited, L.P.

Filed Date: 7/10/23.

Accession Number: 20230710-5180.

Comment Date: 5 p.m. ET 8/24/23.

Take notice that the Commission received the following exempt wholesale generator filings:

Docket Numbers: EG23-225-000.

Applicants: Chevelon Butte RE II LLC.

Description: Chevelon Butte RE II LLC submits Notice of Self-Certification of Exempt Wholesale Generator Status.

Filed Date: 7/13/23.

Accession Number: 20230713-5021.

Comment Date: 5 p.m. ET 8/3/23.

Take notice that the Commission received the following Complaints and Compliance filings in EL Dockets:

Docket Numbers: EL23-82-000.

Applicants: El Dorado Irrigation District v. California Independent System Operator.

Description: Complaint of El Dorado Irrigation District v. California Independent System Operator.

Filed Date: 7/12/23.

Accession Number: 20230712-5197.

Comment Date: 5 p.m. ET 7/24/23.

Take notice that the Commission received the following electric rate filings:

Docket Numbers: ER22-2110-000; ER22-2110-001.

Applicants: PJM Interconnection, L.L.C.

Description: PJM Interconnection, L.L.C. submits a Notification of Occurrence of Transition Date, July 10, 2023.

Filed Date: 7/11/23.

Accession Number: 20230711-5181.

Comment Date: 5 p.m. ET 8/1/23.

Docket Numbers: ER23-1888-001.

Applicants: AEP Texas Inc.

Description: Tariff Amendment: AEPTX-Brightside Solar 1st A&R Gen Interconnection Agr—Amend Pending to be effective 5/1/2023.

Filed Date: 7/13/23.

Accession Number: 20230713-5018.

Comment Date: 5 p.m. ET 8/3/23.

Docket Numbers: ER23-1895-000.

Applicants: Solar Partners XI, LLC.

Description: Second Supplement to May 16, 2023, Solar Partners XI, LLC tariff filing.

Filed Date: 7/6/23.

Accession Number: 20230706-5151.

Comment Date: 5 p.m. ET 7/17/23.

Docket Numbers: ER23-2088-000.

Applicants: Midcontinent Independent System Operator, Inc.

Description: Motion for Leave to Answer and Answer of Midcontinent Independent System Operator, Inc. to Duke Energy Business Services, LLC, et al. comments on June 28, 2023, re Unexecuted Generator Interconnection Agreement.

Filed Date: 7/13/23.

Accession Number: 20230713-5086.

Comment Date: 5 p.m. ET 8/3/23.

Docket Numbers: ER23-2375-000.

Applicants: Scioto Farms Solar Project, LLC.

Description: Scioto Farms Solar Project, LLC submits a one-time, limited waiver request of a procedural deadline in Section 212.4 of PJM Interconnection, L.L.C. Open Access Transmission Tariff.

Filed Date: 7/10/23.

Accession Number: 20230710-5179.

Comment Date: 5 p.m. ET 7/31/23.

Docket Numbers: ER23-2378-000.

Applicants: ISO New England Inc., The Connecticut Light and Power Company.

Description: ISO New England, Inc. and The Connecticut Light and Power Company submits a Notice of Termination of Original SA No. LGIA-ISONE/CLP 20-02 under Schedule 22 of the ISO-NE's OATT.

Filed Date: 7/11/23.

Accession Number: 20230711-5180.

Comment Date: 5 p.m. ET 8/1/23.

Docket Numbers: ER23-2379-000.

Applicants: ISO New England Inc.

Description: ISO New England Inc., Filing of Permanent De-List Bids and Retirement De-List Bids Submitted for the Eighteenth Forward Capacity Auction.

Filed Date: 7/12/23.

Accession Number: 20230712-5193.

Comment Date: 5 p.m. ET 8/2/23.

Docket Numbers: ER23-2380-000.

Applicants: Wagon Wheel Wind Project Holdings LLC.

Description: § 205(d) Rate Filing: Revised Market-Based Rate Tariff Filing to be effective 9/12/2023.

Filed Date: 7/13/23.

Accession Number: 20230713-5015.

Comment Date: 5 p.m. ET 8/3/23.

Docket Numbers: ER23-2381-000.

Applicants: Diversion Wind Energy Holdings LLC.

Description: § 205(d) Rate Filing: Revised Market-Based Rate Tariff Filing to be effective 9/12/2023.

Filed Date: 7/13/23.

Accession Number: 20230713-5016.

Comment Date: 5 p.m. ET 8/3/23.

Docket Numbers: ER23-2382-000.

Applicants: Boomtown Solar Energy LLC.

Description: § 205(d) Rate Filing: Revised Market-Based Rate Tariff Filing to be effective 9/12/2023.

Filed Date: 7/13/23.

Accession Number: 20230713-5017.

Comment Date: 5 p.m. ET 8/3/23.

Docket Numbers: ER23-2383-000.

Applicants: Avista Corporation.

Description: § 205(d) Rate Filing: Avista Asotin Interconnection Agreement SA T1010-1 to be effective 10/1/2023.

Filed Date: 7/13/23.

Accession Number: 20230713-5026.

Comment Date: 5 p.m. ET 8/3/23.

Docket Numbers: ER23-2384-000.

Applicants: Goshen Phase II LLC.

Description: § 205(d) Rate Filing: Revised Market-Based Rate Tariff Filing to be effective 7/14/2023.

Filed Date: 7/13/23.

Accession Number: 20230713-5040.

Comment Date: 5 p.m. ET 8/3/23.

Docket Numbers: ER23-2386-000.

Applicants: Avista Corporation.

Description: § 205(d) Rate Filing: Avista Corp NITSA BPA Asotin SA T-1091-1 to be effective 10/1/2023.

Filed Date: 7/13/23.

Accession Number: 20230713-5042.

Comment Date: 5 p.m. ET 8/3/23.

Docket Numbers: ER23-2387-000.

Applicants: Arizona Public Service Company.

Description: § 205(d) Rate Filing: Rate Schedule No. 217, Exhibit C to be effective 9/12/2023.

Filed Date: 7/13/23.

Accession Number: 20230713-5044.

Comment Date: 5 p.m. ET 8/3/23.

Docket Numbers: ER23-2388-000.

Applicants: Avista Corporation.

Description: § 205(d) Rate Filing: Avista OATT Tariff Revisions LGIP to be effective 12/1/2023.

Filed Date: 7/13/23.

Accession Number: 20230713-5088.

Comment Date: 5 p.m. ET 8/3/23.

Docket Numbers: ER23-2389-000.

Applicants: AEP Oklahoma Transmission Company, Inc.

Description: § 205(d) Rate Filing: AEPOTC-White Rock Wind West (Tonkawa Creek) Maintenance Agreement to be effective 6/13/2023.

Filed Date: 7/13/23.

Accession Number: 20230713-5098.

Comment Date: 5 p.m. ET 8/3/23.

Docket Numbers: ER23-2390-000.

Applicants: New England Power Pool Participants Committee, ISO New England Inc.

Description: § 205(d) Rate Filing: New England Power Pool Participants Committee submits tariff filing per 35.13(a)(2)(iii: Manchester Methane Involuntary Termination to be effective 9/11/2023.

Filed Date: 7/13/23.

Accession Number: 20230713-5103.

Comment Date: 5 p.m. ET 8/3/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 13, 2023.
Debbie-Anne A. Reese,
Deputy Secretary.

[FR Doc. 2023-15320 Filed 7-18-23; 8:45 am]

BILLING CODE 6717-01-P